DEPARTMENT OF THE TREASURY

Office of Management and Budget

Submission for OMB Review; Comment Request

April 27, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 5, 2000 to be assured of consideration.

Internal Revenue Service (IRS)

OMB Number: 1545-0108.

Form Number: IRS Form 1096.

Type of Review: Extension.

Title: Annual Summary and Transmittal of U.S. Information Returns.

Description: Federal 1096 is used to transmit information returns (Forms 1099, 1098, 5498, and W-2G) to the IRS Service Centers. Under Internal Revenue Code (IRC) section 6041 and related sections, a separate Form 1096 is U.S.C. for each type of return sent to the service centers by the taxpayer. It is used by IRS to summarize and categorize the transmitted forms.

Respondents: Individuals or households, Business or other for-profit, Not-for-profit institutions, Farms, Federal Government, State, Local or Tribal Government.

Estimated Number of Respondents: 4,023,036.

Estimated Burden Hours Per Respondent: 10 minutes.

Frequency of Response: Annually.

Estimated Total Reporting Burden: 751,556 hours.

OMB Number: 1545-1241.

Regulation Project Number: PS-92-90 Final.

Type of Review: Extension.

Title: Special Valuation Rules.

Description: Section 2701 of the Internal Revenue Code allows various elections by family members who make gifts of common stock or partnership interests and retain senior interests. The elections affect the value of the gifted interests and the retained interests.

Respondents: Individuals or households.

Estimated Number of Respondents: 1,200.

Estimated Burden Hours Per Respondent: 25 minutes.

Frequency of Response: Other (one-time election).

Estimated Total Reporting Burden: 496 hours.

OMB Number: 1545-1254.

Regulation Project Number: FI-34-91 Final.

Type of Review: Extension.

Title: Conclusive Presumption of Worthlessness of Debts held by Banks.

Description: Paragraph (d)(3) of section 1.166-2 of the regulations allows banks and thrifts to elect to conform their tax accounting for bad debts with their regulatory accounting. An election, or revocation thereof, is a change in method of accounting. The collection of information required in section 1.166-2(d)(3) is necessary to monitor the elections.

Respondents: Business or other for-profit.

Estimated Number of Respondents: 200.

Estimated Burden Hours Per Respondent: 15 minutes.

Frequency of Response: On occasion.

Estimated Total Reporting Burden: 50 hours.

OMB Number: 1545-1260.

Regulation Project Number: CO-62-89 Final.

Type of Review: Extension.

Title: Final Regulations Under Section 382 of the Internal Revenue Code of 1986; Limitation on Corporate Net Operating Loss Carryforwards.

Description: The reporting requirements concerns the election a taxpayer may make to treat as the change date the effective date of a plan of reorganization in a title II or similar case rather than the confirmation date of a plan.

Respondents: Business or other for-profit.

Estimated Number of Respondents: 10.

Estimated Burden Hours Per Respondent: 1 hour.

Frequency of Response: Other (once).

Estimated Total Reporting Burden: 1 hour.

OMB Number: 1545-1344.

Regulation Project Number: CO-30-92 Final.

Type of Review: Extension.

Title: Consolidated Returns—Stock Basis and Excess Loss Accounts, Earnings and Profits, Absorption of Deductions and Losses, Joining and Leaving Consolidated Groups, Worthless Stock Loss, Non-applicability of Section 357(c).

Description: The reporting requirements affect consolidated taxpayers who will be making elections (if made) to treat certain loss carryovers as expiring and an election (if made) allocating items between returns. The information will facilitate enforcement of consolidated return regulations.

Respondents: Business or other for-profit.

Estimated Number of Respondents: 52,049.

Estimated Burden Hours Per Respondent: 45 minutes.

Frequency of Response: On occasion.

Estimated Total Reporting Burden: 18,600 hours.

OMB Number: 1545-1364.

Regulation Project Number: INTL-372-88 Final and INTL-401-88 Final.

Type of Review: Extension.

Title: Section 482 Cost Sharing Regulations (INTL-372-88); and Intercompany Transfer Pricing Regulations Under Section 482 (INTL-401-88).

Description: INTL-372-88: The information will be used to determine whether an entity is an eligible participant of a qualified cost sharing arrangement and whether each eligible participant is sharing the costs and benefits of intangible development on an arm's length basis.

INTL-401-888: This document contains regulations relating to the pricing of transfers of tangible property, intangible property, or services between related parties.

Respondents: Business or other for-profit.

Estimated Number of Respondents/Recordkeepers: 1,000.

Estimated Burden Hours Per Respondent/Recordkeeper: 7 hours, 51 minutes.

Frequency of Response: On occasion.

Estimated Total Reporting/Recordkeeping Burden: 7,850 hours.

OMB Number: 1545-1403.

Regulation Project Number: FI-46-93 Final.

Type of Review: Extension.

Title: Hedging Transactions.

Description: The information is required by the IRS to aid in administering the law and to prevent manipulation. The information will be used to verify that a taxpayer is properly reporting its business hedging transactions.

Respondents: Business or other for-profit.

Estimated Number of Recordkeepers: 110,000.

Estimated Burden Hours Per Recordkeeper: 52 minutes.

Estimated Total Recordkeeping Burden: 95,000 hours.

OMB Number: 1545-1535.

Revenue Procedure Number: Revenue Procedure 97-19.

Type of Review: Extension.

Title: Timely Mailing Treated as Timely Filing.

Description: Revenue Procedure 97-19 provides the criteria that will be used by the IRS to determine whether a private delivery service qualifies as a designated Private Delivery Service under section 7502 of the Internal Revenue Code.

Respondents: Business or other for-profit.

Estimated Number of Respondents: 5.

Estimated Burden Hours Per Respondent: 613 hours, 48 minutes.

Frequency of Response: On occasion.

Estimated Total Reporting Burden: 3,069 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-11301 Filed 5-4-00; 8:45 am]

BILLING CODE 4830-01-P